GULF COAST ECOSYSTEM RESTORATION COUNCIL

[Docket No.: 105152024-1111-01]

Notice of Proposed Subaward Under a Council-Selected Restoration Component Award

AGENCY: Gulf Coast Ecosystem Restoration Council.

ACTION: Notice.

SUMMARY: The Gulf Coast Ecosystem Restoration Council (Council) publishes this notice of a proposed subaward from the Florida Department of Environmental Protection (FDEP) to the Pensacola and Perdido Bays Estuary Program, a nonprofit organization, for the purpose of planning, design and permitting of a stream restoration project in accordance with the Florida Water Quality Improvement Program Award as approved in the Council's Initial Funded Priorities List (FPL).

FOR FURTHER INFORMATION CONTACT: Please send questions by email to Bjorn Johnson at bjorn.johnson@restorethegulf.gov or (504) 444-1260.

SUPPLEMENTARY INFORMATION: Section 1321(t)(2)(E)(ii)(III) of the Resources and Ecosystems Sustainability, Tourist Opportunities, and Revived Economies Act of 2012 (33 U.S.C. 1321(t) and note) (RESTORE Act) and Treasury's implementing regulation at 31 CFR 34.401(b) require that, for purposes of awards made under the Council-Selected Restoration Component of the RESTORE Act, a State or Federal award recipient may make a grant or subaward to or enter into a cooperative agreement with a nongovernmental entity that equals or exceeds 10 percent of the total amount of the award provided to the State or Federal award recipient only if certain notice requirements are met. Specifically, at least 30 days before the State or Federal award recipient enters into such an agreement, the Council must publish in the Federal Register and deliver to specified Congressional committees the name of the recipient and subrecipient; a brief description of the activity, including its purpose; and the amount of the award. This notice accomplishes the Federal Register publication requirement.

Description of Proposed Action

As specified in the Initial FPL, which is available on the Council's website at https://www.restorethegulf.gov/council-selected-restoration-component/funded-priorities-list, RESTORE Act funds in the amount of $6,750,000 will support the Florida Water Quality Improvement Program Award to the FDEP. FDEP will provide a subaward in the amount of $2,200,000 to the Pensacola and Perdido Bays Estuary Program for planning, design and permitting of a stream restoration project.

Keala J. Hughes,
Director of External Affairs & Tribal Relations, Gulf Coast Ecosystem Restoration Council.

[FR Doc. 2024-11060 Filed 5-20-24; 8:45 am]

BILLING CODE 6560-58-P